DEPARTMENT OF HEALTH AND HUMAN SERVICES

Food and Drug Administration

[Docket No. 2006N-0036]

Agency Information Collection Activities; Submission for Office of Management and Budget Review; Comment Request; Experimental Study of Possible Footnotes and Cueing Schemes to Help Consumers Interpret Quantitative Trans Fat Disclosure on the Nutrition Facts Panel

Correction

In notice document E6-21486 beginning on page 75762 in the issue of Monday, December 18, 2006, make the following correction:

On page 75762, in the first column, under the heading dates, in the second and third lines, “December 18, 2006” should read “January 17, 2007”.

[FR Doc. Z6-21486 Filed 1-17-07; 8:45 am]

BILLING CODE 1505-01-D